FEDERAL MARITIME COMMISSION

[Petition No. P2-18]

Petition of Orient Overseas Container Line Limited and OOCL (EUROPE) Limited for an Exemption; Notice of Filing and Request for Comments

Notice is hereby given that Orient Overseas Container Line Limited and OOCL (Europe) Limited (“Petitioners”), have petitioned the Commission pursuant to 46 U.S.C. 40103(a) and 46 CFR 502.94, “. . . for an exemption from 46 U.S.C. 40703 so that they may reduce their tariff rates effective upon publication.”

The Petitioners allege this requested exemption “. . . would neither reduce competition nor be detrimental to commerce.” Petitioners state that “OOCL operates as an ocean common carrier in numerous trades between ports in the United States and ports in other countries.” Petitioners state that they are both entities classified as “. . . controlled carriers within the meaning of 46 U.S.C. 40102(8) and 46 CFR 565.2(a).” Petitioners “. . . are requesting an exemption from the requirement that it provide 30 days' notice of a reduction in its tariff rates” required of controlled carriers and allege that without this exemption “. . . the OOCL entities would be effectively prevented from competing for a measurable portion of the market.”

In order for the Commission to make a thorough evaluation of the exemption requested in the Petition, pursuant to 46 CFR 502.92, interested parties are requested to submit views or arguments in reply to the Petition no later than September 18, 2018. Replies shall be sent to the Secretary by email to Secretary@fmc.gov or by mail to Federal Maritime Commission, 800 North Capitol Street NW, Washington, DC 20573-0001, and replies shall be served on Petitioners' counsels, David F. Smith, Cozen O' Connor, 1200 Nineteenth St. NW, Suite 300, Washington, DC 20036, dsmith@cozen.com, and Jeff R. Vogel, Cozen O' Connor, 1200 Nineteenth St. NW, Suite 300, Washington, DC 20036, jvogel@cozen.com.

Non-confidential filings may be submitted in hard copy to the Secretary at the above address or by email as a PDF attachment to Secretary@fmc.gov and include in the subject line: P2-18 (Commenter/Company). Confidential filings should not be filed by email. A confidential filing must be filed with the Secretary in hard copy only, and be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the filing. Such public filing version shall exclude confidential materials, and shall indicate on the cover page and on each affected page “Confidential materials excluded.” Public versions of confidential filings may be submitted by email. The Petition will be posted on the Commission's website at http://www.fmc.gov/P2-18. Replies filed in response to the Petition will also be posted on the Commission's website at this location.

Rachel E. Dickon,
Secretary.

[FR Doc. 2018-19225 Filed 9-5-18; 8:45 am]

BILLING CODE P